DEPARTMENT OF HEALTH AND HUMAN SERVICES

Health Resources and Services Administration

Availability of Funds in the HRSA Preview; Correction

AGENCY: Health Resources and Services Administration, HHS.

ACTION: Notice; correction.

SUMMARY: In the Federal Register notice of Friday, July 7, 2000, in Part III “Availability of Funds Announced in the HRSA Preview” of FR Doc. 00-16874, on page 42225, the grant category beginning in the first column under the heading “Healthy Start Initiative (HSI)—Eliminating Disparities in Perinatal Health—Border Health, CFDA# 93.926N,” is amended to further extend eligibility to applicants in Hawaii and Alaska who meet all requirements for this competition other than proximity to the Mexican border. These requirements include changes enumerated in item (4) of our Federal Register notice of Monday, December 4, 2000, in FR Doc. 00-30824, page 75721, beginning in the second column.

FOR FURTHER INFORMATION CONTACT: David de la Cruz, Division of Perinatal Systems and Women's Health, Maternal and Child Health Bureau, Health Resources and Services Administration, Room 18A-30, Parklawn Building, 5600 Fishers Lane, Rockville, MD 20857; telephone 1-301-443-8427.

Dated: February 14, 2001.
James J. Corrigan,
Associate Administrator for Management and Program Support.

[FR Doc. 01-4231 Filed 2-20-01; 8:45 am]

BILLING CODE 4160-15-U